DEPARTMENT OF JUSTICE

Notice of Lodging of Proposed Modification of Consent Decree Under the Clean Air Act

On January 14, 2025, the Department of Justice lodged a proposed Modification to a Consent Decree with the United States District Court for the Northern District of Ohio, in the lawsuit entitled United States v. Buckeye Egg Farm, LLC., et al, Civil Action No. 3:03-CV-0768 (2004 N.D. OH).

In 2004, EPA and DOJ entered into a Consent Decree (“CD”) with the inter-related predecessors of Ohio Fresh Eggs, LLC (“OFE”) to resolve Clean Air Act (“CAA”) violations at several of defendants' barns in Ohio that house egg-laying chickens. The CD required OFE, which had purchased the facilities, to install particulate matter (“PM”) control equipment and implement best management practices to reduce ammonia emissions. In 2017, the lessee of OFE's facilities requested termination of the CD. EPA conducted an inspection of the facilities and found numerous violations of the CD. The proposed Modification amends the CD to resolve these violations by providing alternative injunctive relief approved by EPA that will achieve the emission reduction goals of the CD and requiring payment of $5,816,250 in penalties for violations of CD requirements to install and operate emissions controls and to submit quarterly reports.

The publication of this notice opens a period for public comment on the proposed Modification of the Consent Decree. Comments should be addressed to the Assistant Attorney General, Environment and Natural Resources Division, and should refer to United States v. Buckeye Egg Farm, LLC et al., D.J. Ref. No. 90-5-2-1-07262. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Modification of the Consent Decree may be examined and downloaded at this Justice Department website: https://www.justice.gov/enrd/consent-decrees. If you require assistance accessing the Modification of the Consent Decree, you may request assistance by email or by mail to the addresses provided above for submitting comments.

Patricia McKenna,
Deputy Section Chief, Environmental Enforcement Section, Environment and Natural Resources Division.

[FR Doc. 2025-01392 Filed 1-21-25; 8:45 am]

BILLING CODE 4410-15-P